SMALL BUSINESS ADMINISTRATION

[Declaration of Disaster #3569]

State of Mississippi

Lamar and Marion Counties and the contiguous counties of Covington, Forrest, Jefferson Davis, Lawrence, Pearl River and Walthall in the State of Mississippi; and Washington Parish in the State of Louisiana constitute a disaster area due to damages caused by earthen dam failure that occurred on March 12, 2004. Applications for loans for physical damage as a result of this disaster may be filed until the close of business on June 8, 2004, and for economic injury until the close of business on January 10, 2005, at the address listed below or other locally announced locations: U.S. Small Business Administration, Disaster Area 2 Office, One Baltimore Place, Suite 300, Atlanta, GA 30308.

The interest rates are:

| Percent
For Physical Damage:
Homeowners with credit available elsewhere | 6.125
Homeowners without credit available elsewhere | 3.125
Businesses with credit available elsewhere | 5.800
Businesses and non-profit organizations without credit available elsewhere | 2.900
Others (including non-profit organizations) with credit available elsewhere | 4.875

| Percent
For Economic Injury:
Businesses and small agricultural cooperatives without credit available elsewhere | 2.900

The number assigned to this disaster for physical damage is 356906 for Mississippi and 357006 for Louisiana. The number assigned to this disaster for economic injury is 9Z8900 for Mississippi and 9Z9000 for Louisiana.

(Catalog of Federal Domestic Assistance Program Nos. 59002 and 59008.)

Dated: April 9, 2004.
Hector V. Barreto,
Administrator.

[FR Doc. 04-8608 Filed 4-15-04; 8:45 am]

BILLING CODE 8025-01-P